DEPARTMENT OF THE INTERIOR

Fish and Wildlife Service

Information Collection To Be Submitted to the Office of Management and Budget (OMB) for Approval Under the Paperwork Reduction Act; Approval Procedures for Nontoxic Shot and Shot Coatings

AGENCY: Fish and Wildlife Service, Interior.

ACTION: Notice; request for comments.

SUMMARY: The U.S. Fish and Wildlife Service will submit the collection of information listed below to OMB for approval under the provisions of the Paperwork Reduction Act. A summary of the information collection requirement is included in this notice. If you wish to obtain copies of the proposed information collection requirement, related forms, and explanatory material, contact the Service Information Collection Clearance Officer at the address listed below.

DATES: You must submit comments on or before May 23, 2003.

ADDRESSES: Send your comments on the information collection to Anissa Craghead, Information Collection Clearance Officer, U.S. Fish and Wildlife Service, ms 222-ARLSQ, 4401 N. Fairfax Drive, Arlington, VA 22207.

FOR FURTHER INFORMATION CONTACT: To request a copy of the information collection request, explanatory information, and related forms, contact Anissa Craghead at (703) 358-2445, or electronically to anissa_craghead@fws.gov.

SUPPLEMENTARY INFORMATION: The Office of Management and Budget (OMB) regulations at 5 CFR 1320, which implement provisions of the Paperwork Reduction Act of 1995 (44 U.S.C. 3501 et seq.), require that interested members of the public and affected agencies have an opportunity to comment on information collection and record-keeping activities (see 5 CFR 1320.8(d)). The U.S. Fish and Wildlife Service (We) plan to submit a request to OMB to renew its approval of the collection of information for the nontoxic shot and shot coating approval process. We are requesting a 3-year term of approval for this information collection activity.

Federal agencies may not conduct or sponsor, and a person is not required to respond to, a collection of information unless it displays a currently valid OMB control number. The OMB control number for this collection of information is 1018-0067.

The Migratory Bird Treaty Act (16 U.S.C. 703-712) and Fish and Wildlife Act of 1956 (16 U.S.C. 742d) designate the Department of the Interior as the key agency responsible for the wise management of migratory bird populations frequenting the United States and for the setting of hunting regulations that allow appropriate harvests that are within the guidelines that will allow for those populations' well being. These responsibilities include approval of nontoxic shot materials for use in hunting waterfowl and coots in the United States.

As of January 1, 1991, lead shot was banned for hunting waterfowl and coots in the United States. At that time, steel shot was the only nontoxic alternative available. Since then, we have encouraged manufacturers to develop other alternatives that the hunting public may use. In approving a candidate material as nontoxic for hunting waterfowl and coots, we must first ensure that secondary exposure (ingestion of spent shot or its components) is not a hazard to migratory birds and the environment. In order to make this decision, we require the applicant to collect information about the toxicity of their candidate material to migratory birds and the environment. A further requirement pertains to law enforcement. A noninvasive field detection device must be available to distinguish the candidate shot from lead shot. The above information provides the bulk of an application for approval of nontoxic shot material. Once a candidate material is approved as nontoxic, there is no seasonal or annual information collection requirement.

Title: Approval Procedures for Nontoxic Shot and Shot Coatings.

Approval Number: 1018-0067.

Service Form Number: Not applicable.

Frequency of Collection: Occasional (upon application).

Description of Respondents: Shot manufacturers.

Total Annual Responses: We expect no more than 1 application per year.

Total Annual Burden Hours: The reporting burden is estimated to average 3,200 hours per application. Therefore, if we receive 1 application per year, the total annual burden hours would amount to 3,200 hours.

We invite comments concerning this renewal on: (1) Whether the collection of information is necessary for the proper performance of our migratory bird management functions, including whether the information will have practical utility; (2) the accuracy of our estimate of the burden of the collection of information; (3) ways to enhance the quality, utility, and clarity of the information to be collected; and, (4) ways to minimize the burden of the collection of information on respondents. The information collections in this program are part of a system of record covered by the Privacy Act (5 U.S.C. 552(a)).

Dated: March 18, 2003.
Paul R. Schmidt,
Assistant Director Migratory Birds and State Programs.

[FR Doc. 03-6870 Filed 3-21-03; 8:45 am]

BILLING CODE 4310-55-P